DEPARTMENT OF ENERGY

Federal Energy Regulatory Commission

Combined Notice of Filings

Take notice that the Commission has received the following Natural Gas Pipeline Rate and Refund Report filings:

Docket Number: PR20-32-001.

Applicants: Columbia Gas of Ohio, Inc.

Description: Tariff filing per 284.123(b),(e)/: COH SOC Revision effective Sept 1 2020 to be effective 9/1/2020.

Filed Date: 7/31/2020.

Accession Number: 202007315141.

Comments/Protests Due: 5 p.m. ET 8/21/2020.

Docket Numbers: RP19-1426-007.

Applicants: National Fuel Gas Supply Corporation.

Description: Compliance filing Compliance Filing (GT&C 42)—RP19-1429 to be effective 2/1/2020.

Filed Date: 7/29/20.

Accession Number: 20200729-5101.

Comments Due: 5 p.m. ET 8/10/20.

Docket Numbers: RP20-1081-000.

Applicants: Equitrans, L.P.

Description: § 4(d) Rate Filing: Expired Negotiated Rate Agreement—9/30/2020 to be effective 10/1/2020.

Filed Date: 8/3/20.

Accession Number: 20200803-5036.

Comments Due: 5 p.m. ET 8/17/20.

Docket Numbers: RP20-1082-000.

Applicants: Equitrans, L.P.

Description: § 4(d) Rate Filing: Formula Based Negotiated Rate—10/1/2020 Update to be effective 10/1/2020.

Filed Date: 8/3/20.

Accession Number: 20200803-5037.

Comments Due: 5 p.m. ET 8/17/20.

Docket Numbers: RP20-1083-000.

Applicants: Equitrans, L.P.

Description: § 4(d) Rate Filing: Negotiated Rate Capacity Release Agreements—8/1/2020 to be effective 8/1/2020.

Filed Date: 8/3/20.

Accession Number: 20200803-5043.

Comments Due: 5 p.m. ET 8/17/20.

Docket Numbers: RP20-1084-000.

Applicants: Algonquin Gas Transmission, LLC.

Description: § 4(d) Rate Filing: Negotiated Rates—August 2020 Cleanup Filing to be effective 9/3/2020.

Filed Date: 8/3/20.

Accession Number: 20200803-5071.

Comments Due: 5 p.m. ET 8/17/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2020.
Nathaniel J. Davis, Sr.,
Deputy Secretary.

[FR Doc. 2020-17383 Filed 8-7-20; 8:45 am]

BILLING CODE 6717-01-P